DEPARTMENT OF DEFENSE

Department of the Army, Corps of Engineers

Intent To Prepare a Draft Environmental Impact Statement/Environmental Impact Report (EIS/EIR) for a Permit Application for the Berths 97-109 Terminal Improvement Project, Also Known as the China Shipping Line (CSL) Phases I, II, and III in the Port of Los Angeles, Los Angeles County, CA

AGENCY: U.S. Army Corps of Engineers, DOD.

ACTION: Notice of intent (NOI).

SUMMARY: The U.S. Army Corps of Engineers (Corps) Los Angeles District in conjunction with the Los Angeles Harbor Department (Port) is examining the feasibility of waterside, terminal and transportation improvements at Berths 97-109 in the Port of Los Angeles. The Corps is considering the Port's application for a Department of the Army permit under Clean Water Act section 404 and River and Harbor Act section 10 to conduct dredge and fill activities and construct two wharves associated with the proposed project. Some of the project elements are completed and others, previously approved by the Corps and the Port, such as the Channel Deepening Project, are presently under construction.

Major project elements to be covered in the Draft EIS/EIR include: wharf construction and landside improvements. The landside developments will include expansion, redevelopment and construction of marine terminal facilities, and transportation infrastructure improvements including construction of bridge structures, and potential realignment of road and railways.

The primary Federal involvement is the discharge of dredge and/or fill materials within waters of the United States, work (e.g., dredging) and structures in or affecting navigable waters of the United States, and potential impacts on the human environment from such activities. Therefore, in accordance with the National Environmental Policy Act (NEPA), the Corps is requiring the preparation of an Environmental Impact Statement (EIS) prior to rendering a final decision on the Port's permit application. The Corps may ultimately make a determination to permit or deny the above project or permit or deny modified versions of the above project.

Pursuant to the California Environmental Quality Act (CEQA), the Port will serve as Lead Agency for the Preparation of an Environmental Impact Report (EIR). The Corps and the Port have agreed to jointly prepare a Draft EIS/EIR for the improvements at Berth 97-109 (CSL Phases I, II and III) in order to optimize efficiency and avoid duplication. The Draft EIS/EIR is intended to be sufficient in scope to address both the Federal and the state and local requirements and environmental issues concerning the proposed activities and permit approvals.

FOR FURTHER INFORMATION CONTACT: Questions about the proposed action and Draft EIS/EIR can be answered by Mr. Joshua Burnam, Corps Project Manager, at (213) 452-3294. Comments shall be addressed to: U.S. Army Corps of Engineers, Los Angeles District, Regulatory Branch. ATTN: File Number 2003-0-1029-JLB PO Box 532711, Los Angeles, CA 90053-2325, and Dr. Ralph Appy, Director of Environmental Management, Port of Los Angeles, 425 S. Palos Verdes St., San Pedro, CA 90731.

SUPPLEMENTARY INFORMATION:

1. Project Site and Background Information. The proposed project is located in the northwestern portion of the Port of Los Angeles, adjacent to the San Pedro District of the City of Los Angeles, CA. The proposed project involves dredge and fill operations, new wharf construction, coupled with terminal expansion on adjacent areas of existing and newly created land, and improvement of transportation infrastructure at Berths 97-109.

The project's overall goals are to optimize the container cargo handling efficiency in the Berths 97-109 Terminal, increase its cargo handling capacity, and to improve transportation infrastructure in order to accommodate forecasted and planned increases in the volume of containerized goods shipped through the Port. In order to meet these goals, the following objectives must be met:

• Establish needed container facilities that would maximize the use of existing waterways and integrate into the Port's overall utilization of available shoreline, while maintaining opportunities for the future integration with adjacent terminals;

• Construct sufficient container berthing and infrastructure capacity to accommodate foreseeable increases in containerized cargo volumes entering the Port;

• Create sufficient backland area for optimal container terminal operations including, storage, transport, and on/offloading of container ships in a safe and efficient manner;

• Provide access to rail and truck infrastructure locations in order to minimize surface transportation congestion or delays and promote transport to both local and distant cargo destinations; and

• Provide needed container terminal accessory buildings and structures to support containerized cargo handling requirements.

2. Proposed Action. Wharf and backland construction elements include: (1) Construction of the Berth 100 wharf and associated backlands (CSL Phase I), including associated dredging and filling activities, and the placement of piles, rock dike, and construction of concrete wharf deck, (2) Construction of the Berth 102 wharf and development of a marine terminal, including all associated infrastructure and backlands improvements on the Channel Deepening fill, (3) Construction of a 376 linear-foot southern extension of Berth 100 (CSL Phase III), including the placement of rock dike, piles, and construction of concrete wharf deck, and (4) Realignment of rail and roads to create additional backland acreage. Upon completion of all project elements, there will be 2500 linear-feet of continuous concrete wharf deck at Berths 97-109. In addition, project elements that may arise from the public scoping process will also be evaluated in the EIS/EIR.

The proposed improvement project includes the following elements:

Phase I Berth 100-102

• Construction Stage I (2003) ¹

¹ The Port anticipates completion of all Construction Phase I elements by August 15th, 2003.

(1) Discharge of fill material in 1.3 acres of waters of the U.S. associated with the construction and operation of a new 1,200-foot wharf (134,000 square feet) at Berth 100.

(2) Dredging of 41,000 cubic yards (cy) of material along the waterfront at Berths 100-102 to match approved “53 MLLW channel depths, with material to be placed at the Anchorage Road Soil Storage Site.

(3) Construction of 88,000 cy of rock dike, placement of 14,000 cy of fill behind the dike, and placement of 652 concrete piles and 950 pin-piles at Berth 100.

(4) Construction and development of a 75-acre container terminal adjacent to the Berth 100 wharf (35 acres added to the 40 acres that were operating in 2001-2002).

(5) Construction of a bridge from the Berth 100-102 terminal to the Berth 121-131 terminal to facilitate cargo movement between the terminals.

(6) Installation of 4 shore-side gantry cranes (each 243-feet tall) at Berth 100.

(7) Construction of accessory terminal buildings and structures.

Phase II Berth 100-102

• Construction Stage II (2005)

(1) Construction and operation a new 924 linear-foot wharf (114,000 square feet) at Berth 102. Direct impacts to waters of the U.S. associated with the discharge of dredge or fill materials at Berth 102, with the exception of the placement of 560 concrete piles at Berth 102, are associated with the 43-acre landfill in the Southwest Slip that is assessed in the USACE Channel Deepening Project.

(2) Discharge of fill in 1.2 acres of waters of the U.S. associated with the construction and operation of a new 376 linear-foot extension (43,000 square feet) at the southern end of the Phase I wharf.

(3) Construction of 91,000 cy of rock dike and placement of 19,000 cy of fill behind the dike at the Berth 100 extension.

(4) Placement of 560 concrete piles at Berth 102 and placement of 215 concrete piles at the Berth 100 extension.

(5) Development of 35 acres of container terminal backlands on the 43-acre sediment disposal area.

(6) Construction of a second bridge from the Berth 100-102 terminal to the Berth 121-131 terminal to facilitate cargo movement between the terminals.

(7) Installation of 6 shore-side gantry cranes (each 243-feet tall) at Berth 102.

(8) Construction of additional accessory terminal buildings and structures.

Phase III (2010)

Expansion of backland container storage capacity by an additional 24 acres by realigning Front Street and redeveloping the Catalina Terminal area and the former Todd Shipyard parking lot.

3. Issues. There are several potential environmental issues that will be addressed in the EIS/EIR. Additional issues may be identified during the scoping process. Issues initially identified as potentially significant include:

(a) Land use and planning impacts;

(b) Geological issues, including dredging and stabilization of fill areas in an area of known seismic activity;

(c) Impacts to water quality;

(d) Potential impacts to marine biological resources and endangered species of birds;

(e) Impacts to air quality;

(f) Impacts to traffic, including marine navigation and ground transportation;

(g) Potential for noise impacts;

(h) Impacts to public utilities and services;

(i) Potential impacts to aesthetic resources, including cranes, light and glare;

(j) Potential impacts on public health and safety;

(k) Potential impacts to recreation;

(l) Cumulative impacts.

4. Alternatives. Alternatives initially being considered for the proposed improvement project include the following:

(a) Alternate location(s) for the Terminal Improvements (within the State or within the Ports of Los Angeles/Long Beach).

(b) Non-containerized use of terminal (lumber, autos).

(c) Non-shipping use—park, cruise terminal, commercial development, empty container storage.

(d) No Federal action (Construction of only backlands developments at Phases II and III).

(e) Larger facility (consolidation of joint facilities).

5. Scoping Process. The Corps and the Port will jointly conduct separate, simultaneous English and Spanish language public scoping meetings on July 10, 2003 at 6:30 P.M., to receive public comment and assess public concerns regarding the appropriate scope and preparation of the Draft EIS/EIR. The Spanish language meeting will be held in Wilmington, and the English language meeting will be held in San Pedro, specific locations TBD. Parties interested in being added to the Corps' electronic mail notification list for the Port of Los Angeles can register at: http://www.spl.usace.army.mil/regulatory/register.html. This list will be used in the future to notify the public about scheduled hearings and availability of future public notices. Participation in the public meeting by Federal, state and local agencies and other interested organizations and persons are encouraged. The Corps and the Port will make location information available in both English and Spanish once the specific locations are determined.

6. Availability of the Draft EIS/EIR. The joint lead agencies expect the Draft EIS/EIR to be made available to the public in November 2003. A public hearing will be held during the public comment period for the Draft EIS/EIR.

Richard G. Thompson,
Colonel, U.S. Army, District Engineer.

[FR Doc. 03-16015 Filed 6-24-03; 8:45 am]

BILLING CODE 3710-92-P